DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request the Office of Management and Budget (OMB) to allow the proposed information collection project: “AHRQ-HRSA Chemical, Biological, Radiological, Nuclear and Explosive (All Hazards) Preparedness Questionnaire for Healthcare Facilities for 2004 (CBRNE)”. In accordance with the Paperwork Reduction Act of 1995, 44 U.S.C. 3506(c)(2)(A), AHRQ is submitting to OMB a request for Emergency Review.

This emergency review is requested because collection of this information is urgently needed. The information that will be generated by this survey is critical to the preparedness of the nation with respect to chemical, biological, radiological, nuclear and explosive hazards.

It is crucial for national security that we obtain a baseline assessment of the level of preparedness of our hospitals and health care facilities in order to plan Government program priorities, and to offer current and timely information to the Department of Health and Human Services, the Congress, and to the President in order to inform policy decisions relevant to emergency preparedness.

There has been extensive interest by Federal, State, and Local government offices in obtaining this information and frequent requests from Congress, the Congressional Research Service, Office of Management and Budget, Government Accounting Office, and Department of Homeland Security in order to monitor hospital(s) all hazards preparedness program, and the current level of preparedness in the nation, in order to plan for future all hazards preparedness program(s) and policymaking.

DATES: AHRQ is requesting that OMB provide a seven-day review for public comment period on these requirements.

ADDRESSES: Written comments for the proposed information collection should be submitted to the OMB Desk Officer at the following address: John Kraemer, Human Resources and Housing Branch, Office of Information and Regulatory Affairs, OMB: New Executive Office Building, Room 10235, Washington, DC.

All comments will become a matter of public record.

FOR FURTHER INFORMATION CONTACT: Cynthia D. McMichael, AHRQ, Reports Clearance Officer, (301) 427-1651.

SUPPLEMENTARY INFORMATION:

Proposed Project

“Chemical, Biological, Radiological, Nuclear and Explosive (All Hazards) Preparedness Questionnaire for Healthcare Facilities for 2004 (CBRNE)”

The Preparedness Questionnaire is an inventory of all U.S. hospitals, designed to measure national levels of preparedness for a chemical, biological, radiological, nuclear and explosive (CBRNE) event. One point of contact will be designated in each hospital to provide information on a range of topics that have been deemed essential by a panel of nationally-recognized experts on issues related to hospital preparedness for a CBRNE, i.e., an all-hazards event. These topics include facility planning and administration; training and education; communication and notification; patient capacity; staffing and support; isolation and decontamination; supplies, pharmaceuticals and laboratory support; and surveillance.

The inventory, which will be administered in 2004 and again in 2005, will provide national, state, and regional levels of preparedness by type of hospital, as well as estimates of bed capacity and emergency increase (surge) capacity. This information will establish a baseline measure of preparedness and readiness for a CBRNE event in hospitals, and will be used to assess the current national level of preparedness.

It will also be useful for national planning, program planning, setting priority areas in addressing current and future needs, as well as ensuring that scarce resources are being used in a way that achieves the most impact in preparedness. Future studies will be conducted to assess advances in preparedness levels.

Data Confidentiality Provisions

The data will be collected by an independent consulting firm under terms of its contract. The identifiable information about institutions will be kept confidential in accordance with 42 U.S.C. 299c-3(c). AHRQ and HRSA will revieve only state-level summary data, and not individual hospital responses.

Method of Collection

The 2004 preparedness questionnaire will be administered electronically to each hospital via electronic mail. The estimated annual burden is as follows:

Estimated Annual Respondent Burden
Number of questionnaire recipients | Estimated burden/ respondent (minutes) | Total hours of burden
6000 | 60 | 6000

The estimate burden is based on the completion of a paper version of the questionnaire by a pilot hospital. The more efficient data collection effort enabled by the electronic format has been taken into account in this estimate. The annualized cost to all potential respondents is estimated at $209,040 Total ($34.84/hr [average staff time] × 1 hr. 6000 respondents). Percentage of capital costs, operating costs or maintenance costs are negligible. We propose a census information collection approach as appropriate data on which to develop a stratified, purposive sample is unavailable. Future studies will utilize statistical methods based on our baseline data to develop a sampling scheme.

Request for Comments

In accordance with the above cited Paperwork Reduction Act legislation, comments on the AHRQ's and HRSA's information collection are requested with regard to any of the following: (a) Whether the proposed collection of information is necessary for the proper performance of functions of AHRQ and HRSA, including whether the information will have practical utility; (b) the accuracy of the agency's estimate of the burden (including hours and costs) of the proposed collection of information (c) ways to enhance the quality, utility, and clarity of the information to be collected; and (d) ways to minimize the burden of the collection of information on respondents, including the use of automated collection techniques or other forms of information technology.

Comments submitted in response to this notice will summarized and included in the request for OMB approval of the proposed information collection. All comments will become a matter of public record.

Dated: September 17, 2004.
Carolyn M. Clancy,
Director.

[FR Doc. 04-21469 Filed 9-23-04; 8:45 am]

BILLING CODE 4160-90-M